DEPARTMENT OF JUSTICE

Notice of Lodging Proposed Consent Decree

In accordance with Departmental Policy, 28 CFR 50.7, notice is hereby given that a proposed Consent Decree in Andy Johnson v. United States Environmental Protection Agency, et al., Civil Action No. 15-cv-147-SWS, was lodged with the United States District Court for the District of Wyoming on March 22, 2016.

This proposed Consent Decree concerns a complaint filed by Andy Johnson against the United States Environmental Protection Agency (“EPA”), under the Administrative Procedure Act, 5 U.S.C. 706, which seeks judicial review of an administrative order that EPA issued to Mr. Johnson on January 30, 2014, entitled “Findings of Violation and Administrative Order for Compliance,” under Section 309 of the Clean Water Act, 33 U.S.C. 1319. The proposed Consent Decree resolves this matter by, among other things, requiring Mr. Johnson to perform mitigation for areas impacted by fill material.

The Department of Justice will accept written comments relating to this proposed Consent Decree for thirty (30) days from the date of publication of this Notice. Please address comments to Alan D. Greenberg, Senior Attorney, United States Department of Justice, Environment and Natural Resources Division, Environmental Defense Section, 999 18th Street, Suite 370, Denver, CO 80202 and refer to Andy Johnson v. United States Environmental Protection Agency, et al., DJ #90-5-1-4-20568.

The proposed Consent Decree may be examined at the Clerk's Office, United States District Court for the District of Wyoming, 2120 Capitol Avenue, Room 2131, Cheyenne, WY 82001. In addition, the proposed Consent Decree may be examined electronically at http://www.justice.gov/enrd/Consent_Decrees.html.

Cherie L. Rogers,
Assistant Section Chief, Environmental Defense Section, Environment and Natural Resources Division.

[FR Doc. 2016-07009 Filed 3-28-16; 8:45 am]

BILLING CODE 4410-15-P